Title 3—

The President

Memorandum of April 30, 2009

Delegation of Certain Functions Under Sections 603-604 and 699 of the Foreign Relations Authorization Act, Fiscal Year 2003 (Public Law 107-228)

Memorandum for the Secretary of State

By the authority vested in me as President by the Constitution and the laws of the United States of America, including section 301 of title 3, United States Code, I hereby delegate to you the functions conferred upon the President by sections 603-604 and 699 of the Foreign Relations Authorization Act, Fiscal Year 2003 (Public Law 107-228).

You are authorized and directed to transmit this determination and certification to the appropriate committees of the Congress and to publish it in the Federal Register.

THE WHITE HOUSE,

Washington, April 30, 2009

[FR Doc. E9-11369

Filed 5-13-09; 8:45 am]

Billing code 4710-10-P